FEDERAL MARITIME COMMISSION

Notice of Agreement(s) Filed

The Commission hereby gives notice of the filing of the following agreement(s) under the Shipping Act of 1984. Interested parties can review or obtain copies of agreements at the Washington, DC offices of the Commission, 800 North Capitol Street, N.W., Room 940. Interested parties may submit comments on an agreement to the Secretary, Federal Maritime Commission, Washington, DC 20573, within 10 days of the date this notice appears in the Federal Register.

Agreement No.: 011223-027.

Title: Transpacific Stabilization Agreement.

Parties:

A.P. Moller-Maersk Sealand

American President Lines, Ltd.

APL Co. PTE Ltd.

CMA CGM, S.A.

COSCO Container Lines Company Limited

Evergreen Marine Corp. (Taiwan) Ltd.

Hanjin Shipping Co., Ltd.

Hapag-Lloyd Container Linie GmbH

Hyundai Merchant Marine Co., Ltd.

Kawasaki Kisen Kaisha, Ltd.

Mitsui O.S.K. Lines, Ltd.

Nippon Yusen Kaisha

Orient Overseas Container Line Limited

P&O Nedlloyd B.V.

P&O Nedlloyd Limited

Yangming Marine Transport Corporation

Synopsis: The modification deletes references to the discontinued capacity management program, transfers authority found in Appendix C to Article 5, updates names and addresses of member lines and reorganizes and republishes the agreement.

Dated: December 28, 2001.
By Order of the Federal Maritime Commission.
Bryant L. VanBrakle,
Secretary.

[FR Doc. 02-151 Filed 1-3-02; 8:45 am]

BILLING CODE 6730-01-P